FEDERAL COMMUNICATIONS COMMISSION

SES Performance Review Board

As required by the Civil Service Reform Act of 1978 (Pub. L. 95-454), Chairman Ajit Pai has appointed the following executives to the Senior Executive Service (SES) Performance Review Board (PRB):

Michelle Carey Shearer

Kris Monteith

Federal Communications Commission.
Katura Jackson,
Federal Register Liaison Officer, Office of the Secretary.

[FR Doc. 2017-07659 Filed 4-14-17; 8:45 am]

BILLING CODE P